INTERNATIONAL TRADE COMMISSION

[Investigation Nos. 701-TA-417 and 731-TA-953, 954, 957-959, 961, and 962 (Review)]

Carbon and Certain Alloy Steel Wire Rod From Brazil, Canada, Indonesia, Mexico, Moldova, Trinidad and Tobago, and Ukraine

Determinations

On the basis of the record ¹ developed in the subject five-year reviews, the United States International Trade Commission (Commission) determines, pursuant to section 751(c) of the Tariff Act of 1930 (19 U.S.C. 1675(c)), that revocation of the countervailing duty order on carbon and certain alloy steel wire rod from Brazil, and the antidumping duty orders on carbon and certain alloy steel wire rod from Brazil, Indonesia, Mexico,² Moldova, Trinidad and Tobago,³ and Ukraine would be likely to lead to continuation or recurrence of material injury to an industry in the United States within a reasonably foreseeable time. The Commission further determines that revocation of the antidumping duty order on carbon and certain alloy steel wire rod from Canada would not be likely to lead to continuation or recurrence of material injury to an industry in the United States within a reasonably foreseeable time.⁴

¹ The record is defined in sec. 207.2(f) of the Commission's Rules of Practice and Procedure (19 CFR 207.2(f)).

² Chairman Daniel R. Pearson dissenting with respect to Mexico.

³ Chairman Daniel R. Pearson and Commissioner Deanna Tanner Okun dissenting with respect to Trinidad and Tobago.

⁴ Commissioners Charlotte R. Lane and Dean A. Pinkert dissenting with respect to Canada.

Background

The Commission instituted these reviews on September 4, 2007 (72 FR 50696) and determined on December 10, 2007, that it would conduct full reviews (72 FR 73880, December 28, 2007). Notice of the scheduling of the Commission's reviews and of a public hearing to be held in connection therewith was given by posting copies of the notice in the Office of the Secretary, U.S. International Trade Commission, Washington, DC, and by publishing the notice in the Federal Register on January 14, 2008 (73 FR 2273). The hearing was held in Washington, DC, on April 17, 2008, and all persons who requested the opportunity were permitted to appear in person or by counsel.

The Commission transmitted its determinations in these reviews to the Secretary of Commerce on June 17, 2008. The views of the Commission are contained in USITC Publication 4014 (June 2008), entitled Carbon and Certain Alloy Steel Wire Rod from Brazil, Canada, Indonesia, Mexico, Moldova, Trinidad and Tobago, and Ukraine: Investigation Nos. 701-TA-417 and 731-TA-953, 954, 957-959, 961, and 962 (Review).

By order of the Commission.
Issued: June 25, 2008.
Marilyn R. Abbott,
Secretary to the Commission.

[FR Doc. E8-16287 Filed 7-16-08; 8:45 am]

BILLING CODE 7020-02-P